DEPARTMENT OF TRANSPORTATION

Maritime Administration

[Docket No. MARAD-2013-0101]

National Maritime Strategy Symposium: Cargo Opportunities and Sealift Capacity

AGENCY: Maritime Administration, Department of Transportation.

ACTION: Notice of public meeting.

SUMMARY: On October 28, 2013, the Maritime Administration (MARAD) published a notice in the Federal Register inviting the public and other Marine Transportation System stakeholders to participate in a discussion intended to develop a robust national maritime strategy. Stakeholders were asked to provide their ideas for improving the Nation's cargo opportunities and sealift capacity while ensuring future sustainability. After careful consideration of the views and ideas provided, this notice includes the public meeting agenda along with detailed information for those interested in attending the event in person, via phone, or by Internet connection.

DATES: The public meeting will be held from 9:00 a.m. to 4:30 p.m., on January 14th and 15th, and 9:00 a.m. to 12:00 p.m. on January 16th.

Key Date: The deadline to register to attend or speak at the meeting or to submit presentation materials is January 8, 2014.

The following are other important anticipated dates and deadlines:

Deadline to register to attend the public meeting in person | January 8, 2014.
Deadline to register to speak in person, speak by calling in, or to listen only by phone | January 8, 2014.
Deadline to submit digital presentation materials | January 8, 2014.
Call-in and listen-only information distributed to registrants | January 10, 2014.
National Maritime Strategy Symposium-Public Meeting | January 14-15, 2014, 9:00 a.m. to 4:30 p.m.
| January 16, 2014, 9:00 a.m. to12:00 p.m.

ADDRESSES: The public meeting will be held in the U.S. Department of Transportation (DOT) West Atrium, located on the ground floor of 1200 New Jersey Avenue SE., Washington, DC 20590. Overflow seating will be available in adjacent conference rooms.

Note: MARAD has opened a docket to assist the public in obtaining information and in providing comments. For on-line access to the MARAD Docket to read background documents or comments received, go to http://www.regulations.gov and query “MARAD-2013-0101” at any time or visit our docket in person at Room W12-140 of the Department of Transportation, 1200 New Jersey Avenue SE., Washington, DC, between 9:00 a.m. and 5:00 p.m., Monday through Friday, except Federal Holidays. If you have questions on viewing the Docket, call Cheryl Collins, Program Manager, Docket Operations, telephone: (800) 647-5527.

[See also Submitting Your Comments and Ideas section.]

FOR FURTHER INFORMATION CONTACT: Christine S. Gurland, Assistant Chief Counsel for Legislation and Regulations, Office of Chief Counsel, MAR-225, Maritime Administration, 1200 New Jersey Avenue SE., Washington, DC 20590; (202) 366-5157; email: Christine.Gurland@dot.gov.

SUPPLEMENTARY INFORMATION:

Background

The Marine Transportation System is a core component of the United States' economic and national security. While it has proven to be strong and resilient, there is a need to improve and grow the industry to ensure the availability and viability of a U.S. merchant marine in the future. The historic strength of the United States as a maritime Nation relies on its global, coastal, and inland commercial fleet, its ports and intermodal facilities, the national security establishment, and the maritime workforce that supports and operates U.S.-flagged vessels. The purpose of this initial public meeting is to generate ideas that will improve, strengthen, and sustain the cargo opportunities and sealift capacity of the U.S.-flagged fleet engaged in international commercial trade. Those ideas will necessarily be focused on the U. S. Marine Transportation System.

Public Meeting Agenda

NATIONAL MARITIME STRATEGY SYMPOSIUM #1—Growing the US-Flag Fleet Engaged in International Trade
14-16 JANUARY 2014
Time | 14 January 2014 | 15 January 2014 | 16 January 2014
0900-1030 | PLENARY: Growing the International Fleet: Opportunities & Challenges | PLENARY: Shipper's Perspective | PLENARY (1000-1200) Wrap Up & Next Steps
1030-1200 | BREAKOUT SESSION #1 The Need for a US-Flag International Fleet-National Security- Economy & Jobs | BREAKOUT SESSION #2C-Same as #2A | Wrap Up & Next Steps continued.
1200-1330 | LUNCH/KEYNOTES | LUNCH/KEYNOTES |
1330-1500 | BREAKOUT SESSIONS #2A | PRESENTATIONS |
| —Creating Cargo Opportunities | —Open Session (Times will be allotted for individual presentations upon registration.)
| —Increasing Competiveness in International Trade
| —Tax, Regulation & Finance Reform
| —Training & Retaining the Maritime Workforce
| —International Issues and Agreements
1500-1630 | BREAKOUT SESSIONS #2B-Same As #2A | BREAKOUT SESSION #3 Domestic Policies, Industry & Infrastructure Supporting the International Fleet

About the Public Meeting

1. The Acting Maritime Administrator will preside over the public meeting. Senior Department and MARAD officials will also attend this meeting to receive comments from the public. During the meeting, we may ask questions that will clarify statements or gather more information or data to help us understand the issues raised by commenters.

2. The meeting is designed to solicit public views and gather additional information, insights and experience to assist in the development of a National Maritime Strategy. Therefore, the meeting will be conducted in an informal and non-adversarial manner. To allow for more detailed discussion, this initial meeting will focus on the opportunities and challenges of growing the U.S.-flagged international fleet.

3. The public meeting will be broadcast live via web streaming and a listen-only telephone line. The public may access the live web streaming by a link from http://www.marad.dot.gov. Listen-only telephone line participants must register in order to obtain the telephone number.

4. Members of the public are invited to make comments in person at the venue, through a call-in number, or by entry in the MARAD Docket. When registering to speak in person or by telephone, please estimate the amount of time that you would like to use for your presentation; final times will be allotted to participants based on the time available and the issues raised.

5. Comments are welcome at the MARAD Docket leading up to the event as well as during the event or on conclusion of the symposium. If you would like to make a comment to the docket go to http://www.regulations.gov and type in the docket number (MARAD-2013-0101) in the “SEARCH” box and then click “SEARCH.” Once you arrive at the National Maritime Strategy Symposium docket, click “Submit a Comment” and follow the guidance provided. [See also Submitting Your Comments and Ideas section.]

6. To ensure that comments are most useful in informing the development of the U.S.-flagged international fleet as part of a national maritime strategy, please include the docket number (MARAD-2013-0101), any specific citations, a detailed description of your concerns or ideas, and any supporting information that would assist MARAD in considering the issues raised. [See also Submitting Your Comments and Ideas section.]

7. Those who wish to speak during the meeting are requested to advise, at the time of registration, what topic or topics they would like to comment on; amplifying information will be welcome but is not required. For example, comments may focus on, but are not limited to, the following topics: Creating Cargo Opportunities; Increasing Competitiveness in International Trade; Tax, Regulation & Finance Reform; Training & Retaining the Maritime Workforce; International Issues and Agreements; and Domestic Policies, Industry & Infrastructure Supporting the International Fleet.

8. Any digital presentation materials for the meeting should be submitted to Mickalyn Valentine, Office of the Executive Director, MAR-120, Maritime Administration, 1200 New Jersey Avenue SE., Washington, DC 20590; (202) 366-3907; mickalyn.valentine@dot.gov no later than January 8, 2014. [See Registration section for contact information.]

9. We hope to be able to accommodate everyone who would like to speak at the meeting, but if there are more interested participants than time available, we will limit participants in order of date and time of registration. If available, time will be allotted to those attending the meeting in person to speak, even if they had not previously registered to speak. For those who wish to make comments, but for whom there is not time available or who do not wish to speak, it will be possible to post comments to the public docket. [See also Submitting Your Comments and Ideas section.]

10. A transcript of the public meeting will be made available on our Web site http://www.marad.dot.gov and posted to the docket at http://www.regulations.gov.

11. The recorded webcast video will remain available following the meeting via a link from our Web site at http://www.marad.dot.gov.

Arrival and Admission Information

1. In-person attendees are encouraged to arrive at least 45 minutes prior to the meeting for processing through building security. All in-person attendees must enter through the New Jersey Avenue entrance (West Building—at the corner of New Jersey Avenue SE. and M Street SE.). Anyone exiting the building for any reason will be required to re-enter through the security checkpoint at the New Jersey Avenue Entrance.

2. Due to security requirements, all in-person attendees must bring a Government-issued form of identification (e.g., driver's license) to ensure access to the building. In-person attendees who have Federal government identification are required to register to attend due to space constraints. Foreign National in-person attendees must bring their passports with them. To facilitate security screening, all in-person attendees are encouraged to limit bags and other items (e.g., mobile phones, laptops, cameras, etc.) they bring into the building.

3. Due to space limitations no outside videotaping will be allowed.

4. The Department of Transportation (DOT) and MARAD are not able to offer visitor parking; we suggest that attendees consider using alternative means of transportation to the building. DOT Headquarters/MARAD is served by Metrorail (Navy Yard station), Metrobus, DC Circulator, and taxi service. There are a number of private parking lots near the DOT building, but MARAD cannot guarantee the availability of parking spaces.

5. For information on facilities or services for persons with disabilities, or to request special assistance at the meeting, contact Mickalyn Valentine, Office of the Executive Director, MAR-120, Maritime Administration, 1200 New Jersey Avenue SE., Washington, DC 20590; (202) 366-3907 as soon as possible.

Registration

All in-person attendees, whether or not they are planning to provide their views to the participants, must register with Mickalyn Valentine, Office of the Executive Director, Maritime Administration, 1200 New Jersey Avenue SE., Washington, DC 20590; (202) 366-3907; mickalyn.valentine@dot.gov no later than January 8, 2014. You may locate the symposium registration form and agenda via a link from MARAD's Web site at http://www.marad@dot.gov.

Any person wishing to present an oral statement via telephone, or any person who would like to listen to the meeting over a listen-only telephone line must also register with Ms. Valentine by January 8, 2014. Call-in and listen-only telephone numbers will be distributed to registered participants on January 10, 2014. Foreign National registrants must provide full name, title, country of citizenship, date of birth, passport number, and passport expiration date when registering.

Because seating space is limited, we may have to limit the number of attendees in order of date and time of registration.

Submitting Your Comments and Ideas

To ensure that comments are most useful in informing the development of a national

maritime strategy, you should include the docket number (MARAD-2013-0101), any specific citations, a detailed description of your concerns or ideas, and any supporting information that would assist MARAD in considering the issues raised.

In order to provide the public with alternative means of providing feedback to MARAD in ways that may better suit their needs, we have provided a docket at http://www.regulations.gov to allow for submissions to MARAD in a less formal manner. The MARAD Docket provides members of the public who do not wish to make a presentation, cannot make a presentation, or who wish to add other comments an opportunity to submit their ideas.

Comments are welcome at the MARAD Docket leading up to the event as well as during the event or on conclusion of the symposium. If you would like to make a comment on-line, go to http://www.regulations.gov and type in the docket number (MARAD-2013-0101) in the “SEARCH” box and then click “SEARCH.” Once you arrive at the National Maritime Strategy Symposium Docket, click “Submit a Comment” and follow the guidance provided.

If you submit a comment or idea on-line via www.regulations.gov, please know that comments submitted to www.regulations.gov are not immediately posted to the site. It may take several business days before your submission will be posted on the electronic docket. If you have questions on viewing the Docket, call Cheryl Collins, Program Manager, Docket Operations, telephone: (800) 647-5527.

In addition to providing comments on-line via www.regulations.gov, you may submit comments and ideas to DOT Docket Number MARAD-2013-0101 by any of the following methods as well: Fax, Mail or Hand Delivery. However, please use only one means for each submission. Specific instructions follow:

• For submission by facsimile/Fax, transmit your comment or idea to (202) 493-2251. Be sure to identify the submission by DOT Docket Number MARAD-2013-0101.

• Submissions by Mail or Hand Delivery should go to Docket Management Facility, U.S. Department of Transportation, 1200 New Jersey Avenue SE., West Building, Room W12-140, Washington, DC 20590, between 9:00 a.m. and 5:00 p.m., Monday through Friday, except on Federal holidays. If you submit your inputs by mail or hand delivery, submit them in an unbound format, no larger than 8½ by 11 inches, suitable for copying and electronic filing. If you submit comments by mail and would like to know that they reached the facility, please enclose a stamped, self-addressed postcard or envelope.

If you Fax, mail or hand deliver your input we recommend that you include your name and a mailing address, an email address or a telephone number in the body of your document so that we can contact you if we have questions regarding your submission.

Note: All comments or ideas submitted for this purpose, including any personal information provided, will be posted without change to http://www.regulations.gov.

Follow-Up Action by MARAD

Your comments will provide meaningful and significant information for senior DOT and MARAD officials developing the national maritime strategy. Following the symposium, you will be able to access the event transcript on-line from our docket or from a link on our home page at http://www.marad@dot.gov. The transcript of the meeting will be a Maritime Administration posting entitled “National Maritime Strategy Symposium 2014 Transcript.” To access the transcript on-line at www.regulations.gov, go to “SEARCH” and enter MARAD-2013-0101 and click enter. You will arrive at our docket and the transcript of the meeting will be a Maritime Administration posting entitled “National Maritime Strategy Symposium 2014 Transcript.” Go to that posting and click on the attachment. MARAD will host or participate in future forums to discuss the domestic aspects of a national maritime strategy.

Privacy Act Statement

Anyone is able to search all comments entered into any of our dockets by the name of the individual submitting the comment (or signing the comment, if submitted on behalf of an association, business, labor union, etc.). You may review DOT's complete Privacy Act Statement in the Federal Register published on April 11, 2000 (65 FR 19476, 04/11/2011) or at http://www.dot.gov/privacy.html.

Authority: 5 U.S.C. 610; E.O., 13563, 76 FR 3821, Jan. 21 2011; E.O. 12866, 58 FR51735, Oct. 4, 1993.

* * *

Dated: December 23, 2013.
By Order of the Maritime Administrator.
T. Mitchell Hudson, Jr.,
Acting Secretary, Maritime Administration.

[FR Doc. 2013-31095 Filed 12-26-13; 8:45 am]

BILLING CODE 4910-81-P